DEPARTMENT OF ENERGY

Federal Energy Regulatory Commission

Combined Notice of Filings #1

Take notice that the Commission received the following electric rate filings:

Docket Numbers: ER16-2569-003.

Applicants: The Dayton Power and Light Company.

Description: Compliance filing: DP&L Settlement Compliance Filing to be effective 11/8/2016.

Filed Date: 5/18/17.

Accession Number: 20170518-5023.

Comments Due: 5 p.m. ET 6/8/17.

Docket Numbers: ER16-2570-003.

Applicants: AES Ohio Generation, LLC.

Description: Compliance filing: AES Ohio Settlement Compliance Filing to be effective 4/8/2017.

Filed Date: 5/18/17.

Accession Number: 20170518-5026.

Comments Due: 5 p.m. ET 6/8/17.

Docket Numbers: ER17-1617-000.

Applicants: Duke Energy Carolinas, LLC.

Description: § 205(d) Rate Filing: DEC-DEP As-Available Capacity Agreement RS No. 345 to be effective 7/19/2017.

Filed Date: 5/17/17.

Accession Number: 20170517-5103.

Comments Due: 5 p.m. ET 6/7/17.

Docket Numbers: ER17-1618-000.

Applicants: Duke Energy Progress, LLC.

Description: § 205(d) Rate Filing: As-Available Capacity Agreement Concurrence Filing to be effective 7/19/2017.

Filed Date: 5/17/17.

Accession Number: 20170517-5104.

Comments Due: 5 p.m. ET 6/7/17.

Docket Numbers: ER17-1619-000.

Applicants: PJM Interconnection, L.L.C.

Description: § 205(d) Rate Filing: Revisions to OA Sch 6, section 1.5—Substation Equipment Exemption to be effective 7/18/2017.

Filed Date: 5/17/17.

Accession Number: 20170517-5133.

Comments Due: 5 p.m. ET 6/7/17.

Docket Numbers: ER17-1620-000.

Applicants: Liberty Utilities (CalPeco Electric) LLC.

Description: § 205(d) Rate Filing: Amended Service Agreement to be effective 6/1/2017.

Filed Date: 5/17/17.

Accession Number: 20170517-5136.

Comments Due: 5 p.m. ET 6/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2017.
Kimberly D. Bose,
Secretary.

[FR Doc. 2017-10598 Filed 5-23-17; 8:45 am]

BILLING CODE 6717-01-P